DEPARTMENT OF AGRICULTURE

Agricultural Marketing Service

7 CFR Part 1214

[Document No. AMS-SC-17-0079]

Christmas Tree Promotion Research, and Information Order; Referendum

AGENCY: Agricultural Marketing Service, USDA.

ACTION: Notification of referendum order.

SUMMARY: This document directs that a referendum be conducted among eligible producers and importers of Christmas trees to determine whether they favor continuance of the Agricultural Marketing Service's (AMS) regulations regarding a national Christmas tree research and promotion program.

DATES: The referendum will be conducted by mail ballot from May 1 through May 31, 2018. The Department will provide the option for ballots to be returned electronically. Further details will be provided in the ballot instructions. Ballots must be received by the referendum agents no later than the close of business on May 31, 2018, to be counted.

ADDRESSES: Copies of the Christmas tree program may be obtained from: Referendum Agent, Promotion and Economics Division, Specialty Crops Program, AMS, USDA, 1400 Independence Avenue SW, Room 1406-S, Stop 0244, Washington, DC 20250-0244, telephone: (202) 720-9915; facsimile: (202) 205-2800; or contact Victoria Carpenter at (202) 720-6930 or via electronic mail: VictoriaM.Carpenter@ams.usda.gov.

FOR FURTHER INFORMATION CONTACT: Victoria Carpenter, Marketing Specialist, Promotion and Economics Division, Specialty Crops Program, AMS, USDA, 1400 Independence Avenue SW, Room 1406-S, Stop 0244, Washington, DC 20250-0244; telephone: (202) 720-9915, (202) 720-6930 (direct line); facsimile: (202) 205-2800; or electronic mail: VictoriaM.Carpenter@ams.usda.gov.

SUPPLEMENTARY INFORMATION: Pursuant to the Commodity Promotion, Research, and Information Act of 1996 (7 U.S.C. 7411-7425) (1996 Act), it is hereby directed that a referendum be conducted to ascertain whether continuance of the Christmas Tree Promotion, Research, and Information Order (7 CFR part 1214) is favored by eligible domestic producers and importers of Christmas trees. The program is authorized under the 1996 Act.

The representative period for establishing voter eligibility for the referendum shall be the period from September 1, 2017 through March 15, 2018. Persons who domestically produced or imported more than 500 trees during the representative period, and were subject to assessments during that period are eligible to vote. Persons who received an exemption from assessments pursuant to § 1214.53 for the entire representative period are ineligible to vote. The referendum will be conducted by mail ballot from May 1 through May 31, 2018. The Department will provide the option for ballots to be returned electronically. Further details will be provided in the ballot instructions.

Section 518 of the 1996 Act (7 U.S.C. 7417) authorizes required referenda. Under § 1214.81(a) of 7 CFR part 1214, the U.S. Department of Agriculture (USDA) must conduct a referendum not later than three years after assessments first begin under the order to determine whether persons subject to assessment favor continuance of the program. Assessment collection began for the newly established program in 2015. USDA would continue the program if continuance is favored by a majority of producers and importers of Christmas trees voting in the referendum.

In accordance with the Paperwork Reduction Act of 1995 (44 U.S.C. chapter 35), the referendum ballot has been approved by the Office of Management and Budget (OMB) and assigned OMB No. 0581-0093. It has been estimated that approximately 1,800 entities will be eligible to vote in the referendum. It will take an average of 15 minutes for each voter to read the voting instructions and complete the referendum ballot.

Referendum Order

Victoria Carpenter, Marketing Specialist, and Heather Pichelman, Director, Promotion and Economics Division, Specialty Crops Program, AMS, USDA, Stop 0244, Room 1406-S, 1400 Independence Avenue SW, Washington, DC 20250-0244, are designated as the referendum agents to conduct this referendum. The referendum procedures at 7 CFR 1214.100 through 1214.108, which were issued pursuant to the 1996 Act, shall be used to conduct the referendum.

The referendum agent will mail the ballots to be cast in the referendum and voting instructions to all known, eligible domestic producers and importers prior to the first day of the voting period. Persons who domestically produced or imported 500 or more Christmas trees during the representative period, and were subject to assessment during that period, are eligible to vote. Persons who received an exemption from assessments pursuant to § 1214.53 during the entire representative period are ineligible to vote. Any eligible producer or importer who does not receive a ballot should contact the referendum agent no later than one week before the end of the voting period. Ballots must be received by the referendum agent by 4:30 p.m. Eastern time, May 31, 2018, in order to be counted.

List of Subjects in 7 CFR Part 1214

Administrative practice and procedure, Advertising, Consumer information, Christmas trees, Marketing agreements, Reporting and recordkeeping requirements.

Authority: 7 U.S.C. 7411-7425; 7 U.S.C. 7401.

Dated: March 12, 2018.
Bruce Summers,
Acting Administrator.

[FR Doc. 2018-05313 Filed 3-15-18; 8:45 am]

BILLING CODE 3410-02-P